DEPARTMENT OF ENERGY

Federal Energy Regulatory Commission

Combined Notice of Filings # 1

Take notice that the Commission received the following electric rate filings:

Docket Numbers: ER23-2003-002.

Applicants: Invenergy Nelson Expansion LLC.

Description: Tariff Amendment: Supplement to Deficiency Letter Response to be effective 7/1/2023.

Filed Date: 10/11/23.

Accession Number: 20231011-5159.

Comment Date: 5 p.m. ET 11/1/23.

Docket Numbers: ER24-69-000.

Applicants: Southwest Power Pool, Inc.

Description: § 205(d) Rate Filing: 2969R4 Associated Electric Cooperative, Inc. NITSA NOA to be effective 10/1/2023.

Filed Date: 10/11/23.

Accession Number: 20231011-5034.

Comment Date: 5 p.m. ET 11/1/23.

Docket Numbers: ER24-70-000.

Applicants: PJM Interconnection, L.L.C.

Description: § 205(d) Rate Filing: Original ISA, SA No. 7087; Queue No. AF1-062 to be effective 9/11/2023.

Filed Date: 10/11/23.

Accession Number: 20231011-5035.

Comment Date: 5 p.m. ET 11/1/23.

Docket Numbers: ER24-71-000.

Applicants: Aron Energy Prepay 30 LLC.

Description: Baseline eTariff Filing: Baseline new to be effective 12/11/2023.

Filed Date: 10/11/23.

Accession Number: 20231011-5048.

Comment Date: 5 p.m. ET 11/1/23.

Docket Numbers: ER24-72-000.

Applicants: Aron Energy Prepay 29 LLC.

Description: Baseline eTariff Filing: Baseline new to be effective 12/11/2023.

Filed Date: 10/11/23.

Accession Number: 20231011-5049.

Comment Date: 5 p.m. ET 11/1/23.

Docket Numbers: ER24-73-000.

Applicants: CenterPoint Energy Houston Electric, LLC.

Description: § 205(d) Rate Filing: TFO Tariff Interim Rate Revision to Conform with PUCT to be effective 10/6/2023.

Filed Date: 10/11/23.

Accession Number: 20231011-5056.

Comment Date: 5 p.m. ET 11/1/23.

Docket Numbers: ER24-74-000.

Applicants: Metropolitan Edison Company, PJM Interconnection, L.L.C.

Description: § 205(d) Rate Filing: Metropolitan Edison Company submits tariff filing per 35.13(a)(2)(iii): Met-Ed Amends 10 ECSAs (5439 5509 5510 5518 5519 5581 5584 5585 5642 5648) to be effective 12/31/9998.

Filed Date: 10/11/23.

Accession Number: 20231011-5082.

Comment Date: 5 p.m. ET 11/1/23.

Docket Numbers: ER24-75-000.

Applicants: PJM Interconnection, L.L.C.

Description: § 205(d) Rate Filing: Original ISA, Service Agreement No. 7100; Queue No. AE1-208/AE2-169 to be effective 9/11/2023.

Filed Date: 10/11/23.

Accession Number: 20231011-5113.

Comment Date: 5 p.m. ET 11/1/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: October 11, 2023.
Debbie-Anne A. Reese,
Deputy Secretary.

[FR Doc. 2023-22865 Filed 10-16-23; 8:45 am]

BILLING CODE 6717-01-P